DEPARTMENT OF EDUCATION

Regional Advisory Committees; Request for Nomination of Members

AGENCY: Office of Elementary and Secondary Education, U.S. Department of Education.

What Is the Purpose of This Notice?

The purpose of this notice is to give the public the opportunity to nominate candidates for positions on 10 regional advisory committees that will be chartered by the Secretary.

What Is the Role of the Regional Advisory Committees?

Section 206 of the Educational Technical Assistance Act of 2002 (“the Act”) requires the establishment of the committees to advise the Secretary on the educational needs of each of 10 geographic regions. The committees will conduct educational needs assessments in their respective regions, and will submit reports on the assessment results to the Secretary. The educational needs identified by the committees will be considered by the Secretary in establishing priorities for a new program of comprehensive centers described in section 203 of the Act and for regional educational laboratories authorized in section 174 of the Education Sciences Reform Act of 2002. The comprehensive centers and regional educational laboratories will provide technical assistance to State educational agencies, school districts and schools to help them implement the goals and programs of the Elementary and Secondary Education Act of 1965, as reauthorized by the No Child Left Behind Act of 2002, and use the best research and proven practices in their school improvement efforts.

How Will the Regional Advisory Committees Assess Educational Needs?

Each regional advisory committee will conduct a variety of activities, including virtual meetings, to obtain information from individuals, agencies and organizations in the region regarding the region's educational needs and how those needs would be most effectively addressed. Governors, chief State school officers and State staff, school district educators, public and charter school administrators, teachers and parents, regional education service providers, researchers, and business representatives would be among those asked to participate in the assessment.

What Is the Composition of Each Regional Advisory Committee?

Each committee will reflect a balanced representation of the States in the region and will not have more than one representative from each State educational agency in the region. In addition, the total number of local educational agency representatives, parents, and practicing educators will be greater than the total number of State educational agency representatives, higher education representatives, business representatives and researchers on the committee. The committees will vary in size but, on average, may have about 12 members.

What States Are Included in Each Region?

The 10 regions are the same geographic regions served by the regional educational laboratories and include the following States and entities:

Region 1: Alabama, Florida, Georgia, Mississippi, North Carolina, and South Carolina

Region 2: Arkansas, Louisiana, New Mexico, Oklahoma, and Texas

Region 3: Arizona, California, Nevada, and Utah

Region 4: Kentucky, Tennessee, Virginia, and West Virginia

Region 5: Connecticut, Maine, Massachusetts, New Hampshire, New York, Rhode Island, Vermont, Puerto Rico, and Virgin Islands

Region 6: Delaware, Maryland, New Jersey, Pennsylvania, and Washington, DC

Region 7: Colorado, Kansas, Missouri, Nebraska, North Dakota, South Dakota, and Wyoming

Region 8: Illinois, Indiana, Iowa, Michigan, Minnesota, Ohio, and Wisconsin

Region 9: Alaska, Idaho, Montana, Oregon, and Washington

Region 10: Hawaii, American Samoa, the Commonwealth of the Northern Mariana Islands, the Federated States of Micronesia (Chuuk, Kosrae, Pohnpei, and Yap), Guam, the Republic of the Marshall Islands, and the Republic of Palau

Who Is Eligible To Be Nominated?

You may nominate:

1. State educational agency representatives

2. Local educational agency (both rural and urban) representatives

3. Representatives of institutions of higher education, including individuals representing university-based education research and university-based research in subjects other than education.

4. Parents.

5. Practicing educators, including classroom teachers, principals, administrators, school board members, and other local school officials.

6. Business representatives.

7. Researchers.

How Long Will Members of the Regional Advisory Committees Serve?

Members will serve for up to six months. The Secretary will dissolve each committee after the committee submits its needs assessment report. The report is due to the Secretary not later than 6 months after the committee is first convened.

How Can I Nominate Someone?

The nominator must submit for each nominee the following information to the U.S. Department of Education:

1. A resume of 5 pages or less that highlights relevant educational and professional experiences; and

2. A cover page that lists (a) the nominee's name, position, organization or group affiliation, mailing address, phone number(s), fax number, e-mail address and the State represented, and (b) the name, position, organization or group affiliation, mailing address, phone number(s) fax number and e-mail address of the person making the nomination.

Send the nomination materials electronically to Racnominations@ed.gov or by mail to Enid Simmons, US Department of Education, School Support and Technology Programs, 400 Maryland Avenue, SW., Room 3E303, Washington, DC 20202-6400. Telephone: 202-708-9499.

When Must Nominations Be Received?

All nominations must be received no later than 30 days from the date of the publication of this Notice, midnight Eastern Standard Time. If the 30th day falls on a weekend or a Federal holiday, the deadline will be the next working day.

How Can I Get Additional Information?

If you have questions about the nomination process or about the regional advisory committees, please send them electronically to Racrequest@ed.gov or by mail to Enid Simmons, U.S. Department of Education, School Support and Technology Programs, 400 Maryland Avenue, SW., Room 3E303, Washington, DC 20202-6400. Telephone: 202-708-9499.

Dated: July 15, 2004.
Raymond Simon,
Assistant Secretary for Elementary and Secondary Education.

[FR Doc. 04-16591 Filed 7-20-04; 8:45 am]

BILLING CODE 4000-01-P